DEPARTMENT OF COMMERCE

International Trade Administration

[A-570-044]

Antidumping Duty Investigation of 1,1,1,2 Tetrafluoroethane (R-134a) From the People's Republic of China: Postponement of Preliminary Determination of Antidumping Duty Investigation

AGENCY: Enforcement and Compliance, International Trade Administration, Department of Commerce.

DATES: Effective Date: July 28, 2016.

FOR FURTHER INFORMATION CONTACT: Keith Haynes, AD/CVD Operations, Office III, Enforcement and Compliance, International Trade Administration, U.S. Department of Commerce, 14th Street and Constitution Avenue NW., Washington, DC 20230; telephone: (202) 482-5139.

SUPPLEMENTARY INFORMATION:

Background

On March 23, 2016, the Department of Commerce (“Department”) initiated an antidumping duty investigation on 1,1,1,2 Tetrafluoroethane (“R-134a”) from the People's Republic of China (“PRC”).¹ The notice of initiation stated that, in accordance with section 733(b)(l)(A) of the Tariff Act of 1930, as amended (“the Act”), and 19 CFR 351.205(b)(1), we would issue our preliminary determination no later than 140 days after the date of initiation, unless postponed. Currently, the preliminary determination in this investigation is due no later than August 10, 2016. On July 13, 2016, the American HFC Coalition and its individual members,² as well as District Lodge 154 of the International Association of Machinists and Aerospace Workers (collectively, “Petitioners”), requested that the Department postpone its preliminary determination for the above mentioned investigation.

¹ See Antidumping Duty Investigation of 1,1,1,2 Tetrafluoroethane (“R-134a”) from the People's Republic of China: Initiation of Antidumping Duty Investigation, 81 FR 18830 (April 1, 2016).

² The individual members of the American HFC Coalition are: Amtrol Inc., Arkema Inc., The Chemours Company FC LLC, Honeywell International Inc., Hudson Technologies, Mexichem Fluor Inc., and Worthington Industries, Inc.

Postponement of Preliminary Determination

Section 733(b)(1) of the Act requires the Department to issue the preliminary determination in an antidumping duty investigation within 140 days after the date on which the Department initiated the investigation. However, if the petitioner makes a timely request for a postponement, section 733(c)(1)(A) of the Act allows the Department to postpone the preliminary determination until no later than 190 days after the date on which the Department initiated the investigation. On July 13, 2016, Petitioners submitted a timely request pursuant to section 733(c)(1)(A) of the Act and 19 CFR 351.205(e).³ The Department finds that there are no compelling reasons to deny Petitioners' request. The Department is postponing the deadline for the preliminary determination to no later than 190 days after the day on which the investigation was initiated, in accordance with section 733(c)(1)(A) of the Act. Accordingly, the Department will issue the preliminary determination in this investigation no later than September 29, 2016. In accordance with section 735(a)(1) of the Act and 19 CFR 351.210(b)(1), the deadline for the final determination of this investigation will continue to be 75 days after the date of the preliminary determination, unless postponed at a later date.

³ See letter from Petitioners, “1,1,1,2 Tetrafluoroethane (R-134a) from the People's Republic of China: Petitioners' Request for Extension of the Antidumping Investigation Preliminary Determination,” dated July 13, 2016.

This notice is issued and published pursuant to section 733(c)(2) of the Act and 19 CFR 351.205(f)(1).

Dated: July 21, 2016.
Paul Piquado,
Assistant Secretary for Enforcement and Compliance.

[FR Doc. 2016-17805 Filed 7-27-16; 8:45 am]

BILLING CODE 3510-DS-P